DEPARTMENT OF THE INTERIOR

National Park Service

[N6608; NPS-WASO-NAGPRA-NPS0041339; PPWOCRADN0-PCU00RP14.R50000]

Notice of Inventory Completion: Princeton University, Princeton, NJ

AGENCY: National Park Service, Interior.

ACTION: Notice.

SUMMARY: In accordance with the Native American Graves Protection and Repatriation Act (NAGPRA), Princeton University has completed an inventory of human remains and has determined that there is a cultural affiliation between the human remains and Indian Tribes or Native Hawaiian organizations in this notice.

DATES: Repatriation of the human remains in this notice may occur on or after January 15, 2026.

ADDRESSES: Send written requests for repatriation of the human remains in this notice to Lauren Jakobsson, Princeton University, Princeton, NJ 08544, email HROBPrinceton@princeton.edu.

SUPPLEMENTARY INFORMATION: This notice is published as part of the National Park Service's administrative responsibilities under NAGPRA. The determinations in this notice are the sole responsibility of Princeton University, and additional information on the determinations in this notice, including the results of consultation, can be found in its inventory or related records. The National Park Service is not responsible for the determinations in this notice.

Abstract of Information Available

Human remains representing, at least, one individual has been identified. No associated funerary objects are present. The human remains (Ancestor) were removed from Marion County, Indiana and acquired by Reverend R. T. Liston, a Presbyterian missionary born in Indianapolis in 1853. On November 16, 1892, the Ancestor was accessioned at the Elizabeth Marsh Museum of Geology and Archaeology, which in 1909 became part of the Princeton Museum of Natural History (now defunct). Princeton University has no knowledge or record of the presence of any potentially hazardous substances used to treat the human remains.

Human remains representing, at least, one individual have been identified. No associated funerary objects are present. The human remains (Ancestor) were removed from an unknown location. No known archival literature indicates specific information about their region of origin, other than being labelled as “Mound Builder.” The Ancestor was associated with Princeton Biology Professor Charles F.W. McClure (1865-1955) and entered the collections of the Princeton Morphological Museum at an unknown date. Beginning in 1909, the Morphological Museum materials were housed and exhibited in Guyot Hall as part of the Princeton Museum of Natural History. In 1944, these collections came under the joint management of the Biology and Geosciences Departments. In 1966, Biology Professor Elmer G. Butler (1900-1972) cataloged the individual into the Princeton University Osteological Collection for teaching purposes. Princeton University has no knowledge or record of the presence of any potentially hazardous substances used to treat the human remains.

Cultural Affiliation

Based on the information available and the results of consultation, cultural affiliation is reasonably identified by the geographical location of the human remains described in this notice.

Determinations

Princeton University has determined that:

• The human remains described in this notice represent the physical remains of two individuals of Native American ancestry.

• There is a connection between the human remains described in this notice and the Absentee-Shawnee Tribe of Indians of Oklahoma; Bay Mills Indian Community, Michigan; Cayuga Nation; Delaware Nation, Oklahoma; Eastern Shawnee Tribe of Oklahoma; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Vieux Desert Band of Lake Superior Chippewa Indians of Michigan; Little River Band of Ottawa Indians, Michigan; Little Traverse Bay Bands of Odawa Indians, Michigan; Match-e-be-nash-she-wish Band of Pottawatomi Indians of Michigan; Miami Tribe of Oklahoma; Nottawaseppi Huron Band of the Potawatomi, Michigan; Oneida Indian Nation; Oneida Nation; Onondaga Nation; Peoria Tribe of Indians of Oklahoma; Pokagon Band of Potawatomi Indians, Michigan and Indiana; Saginaw Chippewa Indian Tribe of Michigan; Saint Regis Mohawk Tribe; Sault Ste. Marie Tribe of Chippewa Indians, Michigan; Seneca Nation of Indians; Seneca-Cayuga Nation; Shawnee Tribe; and the Tonawanda Band of Seneca.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 15, 2026. If competing requests for repatriation are received, Princeton University must determine the most appropriate requestor prior to repatriation. Requests for joint repatriation of the human remains are considered a single request and not competing requests. Princeton University is responsible for sending a copy of this notice to the Indian Tribes and Native Hawaiian organizations identified in this notice and any other consulting parties.

Authority: Native American Graves Protection and Repatriation Act, 25 U.S.C. 3003, and the implementing regulations, 43 CFR 10.10.

Dated: November 17, 2025.
Melanie O'Brien,
Manager, National NAGPRA Program.

[FR Doc. 2025-22883 Filed 12-15-25; 8:45 am]

BILLING CODE 4312-52-P